ENVIRONMENTAL PROTECTION AGENCY

40 CFR Part 52

[EPA-R05-OAR-2006-0003; FRL-8696-3]

Approval and Promulgation of Air Quality Implementation Plans; Illinois

AGENCY: Environmental Protection Agency (EPA).

ACTION: Direct final rule.

SUMMARY: EPA is approving a revision to the Illinois State Implementation Plan (SIP) for ozone. The state is incorporating revisions EPA made to its definition of volatile organic compound (VOC). This SIP revision adds one compound to the list of compounds that are exempt from being considered a VOC. This is because it was determined that the listed compound does not significantly contribute to ozone formation.

DATES: This direct final rule will be effective October 3, 2008, unless EPA receives adverse comments by September 3, 2008. If adverse comments are received, EPA will publish a timely withdrawal of the direct final rule in the Federal Register informing the public that the rule will not take effect.

ADDRESSES: Submit your comments, identified by Docket ID No. EPA-R05-OAR-2006-0003, by one of the following methods:

1. www.regulations.gov: Follow the on-line instructions for submitting comments.

2. E-mail: mooney.john@epa.gov.

3. Fax: (312) 886-5824.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 am to 4:30 pm excluding Federal holidays.

Instructions: Direct your comments to Docket ID No. EPA-R05-OAR-2006-0003. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Matt Rau, Environmental Engineer, at (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What is EPA approving?

II. What is EPA's analysis of the revisions?

III. What are the environmental effects of this action?

IV. What action is EPA taking?

V. Statutory and Executive Order Reviews

I. What is EPA approving?

EPA is approving an Illinois SIP revision that adds to the list of compounds that are exempt from being considered a VOC. On January 29, 2008, Illinois submitted its revised 35 Illinois Administrative Code (IAC) 211.7150(a), the state's VOC exemption list, with the addition of 1,1,1,2,2,3,4,5,5,5-decafluoro-3-methoxy-4-trifluoromethyl-pentane (HFE-7300), C2F5CF(OCH3)CF(CH3)2, requesting that this revised rule be incorporated into the Illinois SIP in place of the current 35 IAC 211.7150(a). Compounds listed under 35 IAC 211.7150(a) are considered to be excluded from the definition of a VOC. These compounds were determined to have negligible photochemical reactivity. Users of the listed compounds are not required to follow VOC limits or content requirements.

II. What is EPA's analysis of the revisions?

EPA evaluated the petition to list HFE-7300 as a negligibly reactive compound submitted by its manufacturer. On January 18, 2007, EPA's approval (72 FR 2193) of adding HFE-7300 to its list of compounds that are not considered VOCs was effective. The reactivity of this compound with the hydroxyl radical (OH), the primary way by which most organic compounds initially participate in atmospheric reactions that lead to ozone formation, was compared to the reactivity of ethane. The reactivity of ethane is the benchmark EPA considers in determining if an organic compound is negligibly reactive. For HFE-7300, the reactivity (kOH) was determined to be 1.5 × 10⁻¹⁴ cm³/molecule/sec. This is lower than ethane's kOH of 2.4 × 10⁻¹³ cm³/molecule/sec. Thus, EPA considers HFE-7300 to be a negligibly reactive compound. EPA made this determination only for the compound in its pure form, meaning at least 99.96 percent by weight. Any azeotrope mixtures or organic blends of HFE-7300 are not exempt and thus are considered VOCs.

III. What are the environmental effects of this action?

Volatile organic compounds are precursors to ozone formation. Complex photochemical reactions involving VOCs form tropospheric ozone.

Ozone decreases lung function, causing chest pain and coughing. It can aggravate asthma, reduce lung capacity, and increase risk of respiratory diseases like pneumonia and bronchitis. Children playing outside and healthy adults who work or exercise outside may also be harmed by elevated ozone levels. Ozone also reduces vegetation growth in economically important agricultural crops and wild plants.

EPA has determined that HFE-7300 makes a negligible contribution to ozone formation. Thus, the compound is no longer considered to be a VOC for emission control purposes, and the exemptions will not harm air quality. In fact, if sources switch from the use of a VOC compound to one of the compounds that are no longer considered VOC, ozone formation may be reduced.

IV. What action is EPA taking?

EPA is approving revisions to the Illinois SIP for ozone. This revision adds one compound to the list of compounds considered exempt from being a VOC compound. The compound HFE-7300 is added to the exempt compounds list. Illinois sources are not required to follow VOC limits or content requirements when using HFE-7300.

We are publishing this action without prior proposal because we view this as a noncontroversial amendment and anticipate no adverse comments. However, in the proposed rules section of this Federal Register publication, we are publishing a separate document that will serve as the proposal to approve the state plan if relevant adverse written comments are filed. This rule will be effective October 3, 2008 without further notice unless we receive relevant adverse written comments by September 3, 2008. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective October 3, 2008.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 3, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: July 14, 2008.
Walter W. Kovalick Jr.,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart O—Illinois

2. Section 52.720 is amended by adding paragraph (c)(182) to read as follows:

§ 52.720 Identification of plan.

* * * * *

(c) * * *

(182) On January 29, 2008, Illinois submitted revised regulations that are consistent with 40 CFR 51.100(s)(1), as amended by 72 FR 2193. The compound 1,1,1,2,2,3,4,5,5,5-decafluoro-3-methoxy-4-trifluoromethyl-pentane (HFE-7300) was added to the list of negligibly reactive compounds excluded from the definition of VOM in 35 IAC 211.7150(a).

(i) Incorporation by reference.

(A) Illinois Administrative Code Title 35: Environmental Protection, Part 211: Definitions and General Provisions, Subpart B: Definitions, Section 211.7150: Volatile Organic Matter (VOM) or Volatile Organic Compound (VOC), Subsection 211.7150(a). Effective January 16, 2008.

[FR Doc. E8-17699 Filed 8-1-08; 8:45 am]

BILLING CODE 6560-50-P